DEPARTMENT OF VETERANS AFFAIRS

Advisory Committee on Cemeteries and Memorials

Notice of Availability of Report

Under section 13 of Public Law 92-463 (Federal Advisory Committee Act) notice is hereby given that the Report of the Department of Veterans Affairs Advisory Committee on Cemeteries and Memorials for Fiscal Years 1999 and 2000 has been issued. The Report summarizes activities and recommendations of the Committee on matters relative to programs, policies and goals of the National Cemetery Administration. It is available for public inspection at two locations:

Mr. Edward J. Malone, Jr., Federal Advisory Committee Desk, Library of Congress, Anglo-American Acquisition Division, Government Documents Section, Room LM-B42, 101 Independence Avenue, SE., Washington, DC 20540-4172

and

Department of Veterans Affairs, National Cemetery Administration, Suite 400, 810 Vermont Avenue, NW., Washington, DC 20420

Dated: June 4, 2001.
By Direction of the Secretary.
Ventris C. Gibson,
Committee Management Officer.

[FR Doc. 01-15073 Filed 6-14-01; 8:45 am]

BILLING CODE 8320-01-M